DEPARTMENT OF TRANSPORTATION

Federal Aviation Administration

14 CFR Part 71

[Docket No. FAA-2024-2441; Airspace Docket No. 24-AWP-89]

RIN 2120-AA66

Modification of Class D Airspace and Modification of Class E Airspace; Jack Northrop Field/Hawthorne Municipal Airport, Hawthorne, CA

AGENCY: Federal Aviation Administration (FAA), DOT.

ACTION: Notice of proposed rulemaking (NPRM).

SUMMARY: This action proposes to modify the Class D airspace and Class E airspace designated as an extension to a Class D airspace at Jack Northrop Field/Hawthorne Municipal Airport, Hawthorne, CA. This action would more appropriately contain instrument flight rules (IFR) and visual flight rules (VFR) operations at the airport. Additionally, the airport's legal description would be amended to match the FAA's database.

DATES: Comments must be received on or before January 9, 2025.

ADDRESSES: Send comments identified by FAA Docket No. FAA-2024-2441 and Airspace Docket No. 24-AWP-89 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith T. Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the Class D and Class E airspace to support IFR and VFR operations at Jack Northrop Field/Hawthorne Municipal Airport, Hawthorne, CA.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office at the Northwest Mountain Regional Office of the Federal Aviation Administration, Air Traffic Organization, Western Service Center, Operations Support Group, 2200 S 216th Street, Des Moines, WA 98198.

Incorporation by Reference

Class D and Class E airspace designations are published in paragraphs 5000 and 6004, respectively, of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The current Class D airspace is inadequately sized to effectively contain IFR operations at Jack Northrop Field/Hawthorne Municipal Airport. The airport's Class D airspace does not fully contain aircraft conducting an IFR circling maneuver. The maximum allowable circling radius at the airport is 3.6 nautical miles, which extends beyond the current Class D airspace lateral limits. Lastly, Jack Northrop Field/Hawthorne Municipal Airport's (HHR) airport reference point geographic coordinates representing the centralized point of all usable runways should be updated.

The Proposal

The FAA is proposing an amendment to 14 CFR part 71 to modify the Class D airspace and Class E airspace designated as an extension to a Class D airspace at Jack Northrop Field/Hawthorne Municipal Airport, Hawthorne, CA, to support containment of IFR operations.

The existing HHR Class D airspace is described as that airspace within an 2.6-miles radius of airport reference point, with associated extensions from the 229° bearing extending 3.8 miles southwest and the 096° bearings extending 3.9 miles northeast do not fully contain aircraft conducting a IFR circling maneuver. The Class D airspace should be modified to within a 3.9-mile radius and within 2.9 miles southeast of the airport's 205° bearing extending 3.9 miles southwest, excluding that airspace within Zamperini Field Airport Class D airspace area, Los Angeles International Airport Class D airspace area, and Los Angeles International Airport Class B airspace area. The proposed Class D airspace would extend upward from the surface up to and including 2,500 feet mean sea level. This proposed rulemaking action would accommodate IFR arrival operations descending from 1,000 feet above the surface and departing IFR operations until reaching 700 feet above the surface or the next adjacent controlled airspace.

The Class E airspace designated as an extension to a Class D airspace should be modified to within 2 miles north and .5 miles south of the airport's 096° bearing, beginning from the 3.9-mile arc extending to 6.3 miles east of the airport, excluding the Los Angeles International Airport Class B airspace area. This extension would extend upward from the surface to the next controlled airspace.

Additionally, administrative amendments are required for Jack Northrop Field/Hawthorne Municipal Airport's legal descriptions. The airport's reference point geographic coordinates should be amended from lat. 33°55′22″ N, long. 118°20′07″ W to lat. 33°55′22″ N, long. 118°20′06″ W. Lastly, the part-time texts for airports with a Class D airspace not operational for 24 hours should be amended to the appropriate texts reading “The effective date and time thereafter be continuously published in the Chart Supplement. The phrases “Notice to Airmen” and “Airport/Facility Directory.” These phrases should read “Notice to Air Missions” and “Chart Supplement,” respectively, to align with the FAA's current nomenclature.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

AWP CA D Hawthorne, CA [Amended]

Jack Northrop Field/Hawthorne Municipal Airport, CA

(Lat. 33°55′22″ N, long. 118°20′06″ W)

Los Angeles International Airport, CA

(Lat. 33°56′33″ N, long. 118°24′29″ W)

Zamperini Field Airport, CA

(Lat. 33°48′12″ N, long. 118°20′23″ W)

That airspace extending upward from the surface up to and including 2,500 feet MSL within a 3.9-mile radius, and within 2.9 miles southeast of the airport's 205° bearing extending 3.9 miles southwest, excluding that airspace within Zamperini Field Airport Class D airspace area, Los Angeles International Airport Class D airspace area, and Los Angeles International Airport Class B airspace area. This Class D airspace area is effective during the specific dates and times established in advance by a Notice to Air Missions. The effective date and time will thereafter be continuously published in the Chart Supplement.

* * * * *

Paragraph 6004 Class E Airspace Areas Designated as an Extension to a Class D or Class E Surface Area.

* * * * *

AWP CA E4 Hawthorne, CA [Amended]

Jack Northrop Field/Hawthorne Municipal Airport, CA

(Lat. 33°55′22″ N, long. 118°20′06″ W)

Los Angeles International Airport, CA

(Lat. 33°56′33″ N, long. 118°24′29″W)

That airspace extending upward from the surface within 2 miles north and .5 miles south of the airport's 096° bearing, beginning from the 3.9-mile arc extending to 6.3 miles east of the airport, excluding the Los Angeles International Airport Class B airspace area. This Class E airspace area is effective during the specific dates and times established in advance by a Notice to Air Missions. The effective date and time will thereafter be continuously published in the Chart Supplement.

* * * * *

Issued in Des Moines, Washington, on November 15, 2024.
B.G. Chew,
Group Manager, Operations Support Group, Western Service Center.

[FR Doc. 2024-27379 Filed 11-22-24; 8:45 am]

BILLING CODE 4910-13-P